DEPARTMENT OF TRANSPORTATION

Federal Aviation Administration

14 CFR Part 71

[Docket No. FAA-2025-5107; Airspace Docket No. 25-AGL-16]

RIN 2120-AA66

Amendment of Class D and Class E Airspace; Ashland, Bucyrus, and Mansfield, OH

AGENCY: Federal Aviation Administration (FAA), DOT.

ACTION: Notice of proposed rulemaking (NPRM).

SUMMARY: This action proposes to amend the Class D and Class E airspace at Mansfield, OH; and the Class E airspace at Ashland and Bucyrus, OH. The name of Mansfield Lahm Regional Airport, Mansfield, OH; the name and geographic coordinates of University Hospitals Samaritan Medical Center Heliport, Ashland, OH, and Port Bucyrus/Crawford County Airport, Bucyrus, OH, would also be updated to coincide with the FAA's aeronautical database. The FAA is proposing this action as the result of airspace reviews conducted due to the decommissioning of the Mansfield very high frequency omnidirectional range (VOR) as part of the VOR Minimum Operational Network (MON) Program. This action would bring the airspace into compliance with FAA orders and support instrument flight rule (IFR) procedures and operations.

DATES: Comments must be received on or before January 5, 2026.

ADDRESSES: Send comments identified by FAA Docket No. FAA-2025-5107 and Airspace Docket No. 25-AGL-16 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to Docket Operations in Room W12-140 of the West Building Ground Floor at 1200 New Jersey Avenue SE, Washington, DC, between 9 a.m. and 5 p.m., Monday through Friday, except Federal holidays.

FAA Order JO 7400.11K, Airspace Designations and Reporting Points, and subsequent amendments can be viewed online at www.faa.gov/air_traffic/publications/. You may also contact the Rules and Regulations Group, Office of Policy, Federal Aviation Administration, 600 Independence Avenue SW, Washington, DC 20597; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend the Class D and Class E airspace at the affected airports to support IFR operations.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it received on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov as described in the system of records notice (DOT/ALL-14FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received, and any final disposition in person in the Dockets Office (see the ADDRESSES section for the address, phone number, and hours of operations). An informal docket may also be examined during normal business hours at the Federal Aviation Administration, Air Traffic Organization, Central Service Center, Operations Support Group, 10101 Hillwood Parkway, Fort Worth, TX 76177.

Incorporation by Reference

Class D and Class E airspace relevant to this action are published in paragraphs 5000, 6002, and 6005 of FAA Order JO 7400.11, Airspace Designations and Reporting Points, which is incorporated by reference in 14 CFR 71.1 on an annual basis. This document proposes to amend the current version of that order, FAA Order JO 7400.11K, dated August 4, 2025, and effective September 15, 2025. These updates would be published subsequently in the next update to FAA Order JO 7400.11. FAA Order JO 7400.11K, which lists Class A, B, C, D, and E airspace areas, air traffic service routes, and reporting points, is publicly available as listed in the ADDRESSES section of this document.

The Proposal

The FAA is proposing an amendment to 14 CFR part 71 that would modify the Class D, Class E surface area, and Class E airspace extending upward from 700 ft. above the surface at Mansfield, Ohio; and the Class E airspace extending upward from 700 ft. above the surface at Ashland, Ohio, and Bucyrus, Ohio, due to airspace reviews conducted as part of the decommissioning of the Mansfield VOR as part of the VOR MON Program.

For the Mansfield Lahm Regional Airport, Mansfield, OH, Class D airspace, the proposal would: (1) increase the radius from 4.4 miles to 5.4 miles from the airport; (2) update the name of the airport from Mansfield Lahm Municipal Airport to Mansfield Lahm Regional Airport to coincide with the FAA's aeronautical database; and (3) change the outdated term of “Notice to Air Missions” to “Notice to Airmen.”

For the Mansfield Lahm Regional Airport Class E surface area, the proposal would: (1) increase the radius from 4.4 miles to 5.4 miles; and (2) change the outdated term of “Notice to Air Missions” to “Notice to Airmen.”

For the Ashland County Airport, Ashland, OH, Class E airspace extending upward from 700 ft. above the surface, the proposal would: (1) increase the radius from 6.3 miles to 6.9 miles from the airport; and (2) remove the exclusion area as it is not required.

For the University Hospitals Samaritan Medical Center Heliport, Ashland, OH, Class E airspace extending upward from 700 ft. above the surface, the proposal would: (1) increase the radius from 6 miles to 6.7 miles; (2) replace the point in space coordinates with the heliport reference point; and (3) update the name of the heliport from Samaritan Hospital Heliport to University Hospitals Samaritan Medical Center Heliport to coincide with the FAA's aeronautical database.

For the Port Bucyrus/Crawford County Airport, Bucyrus, OH, Class E airspace extending upward from 700 ft. above the surface, the proposal would: (1) increase the radius from 6.3 miles to 6.8 miles; (2) remove the city associated with the airport in the airspace legal description to comply with changes to FAA Order JO 7400.2R, Procedures for Handling Airspace Matters; and (3) update the name of the airport from Port Bucyrus-Crawford County Airport to Port Bucyrus/Crawford County Airport and update the geographic coordinates to coincide with the FAA's aeronautical database.

For the Mansfield Lahm Regional Airport Class E airspace extending upward from 700 ft. above the surface, the proposal would: (1) increase the radius from 6.9 miles to 7.9 miles; (2) amend the extension northeast of the airport to within 2 miles each side of the 047° bearing from the Mansfield Lahm Regional Airport extending from the 7.9-mile (previously 6.9-mile) radius from the airport to 8.9 miles northeast of the airport; (3) remove the Mansfield VORTAC and all associated extensions from the legal description; (4) add an extension within 4 miles each side of the 137° bearing from the Mansfield Lahm RGNL: RWY 32-LOC extending from the 7.9-mile radius from the Mansfield Lahm Regional Airport to 8.9 miles southeast of the airport; (5) add an extension within 4 miles each side of the 136° bearing from the MANNS NDB extending from the 7.9-mile radius of the Mansfield Lahm Regional Airport to 15 miles southeast of the airport; (6) add an extension 4 miles each side of the 137° bearing from the Mansfield Lahm Regional Airport extending from the 7.9-mile radius from the airport to 11.2 miles southeast of the airport; and (7) add an extension within 4 miles each side of the 317° bearing from the Mansfield Lahm Regional Airport extending from the 7.9-mile radius of the airport to 11.6 miles northwest of the airport.

For the Galion Municipal Airport, Galion, OH, Class E airspace extending upward from 700 ft. above the surface contained within the Mansfield, OH, airspace legal description, the proposal would increase the radius from 6.3 miles to 7.9 miles.

For the Shelby Community Airport, Shelby, OH, Class E airspace extending upward from 700 ft. above the surface contained within the Mansfield, OH, airspace legal description, the proposal would increase the radius from 6.3 miles to 7 miles.

And for the Willard Airport, Willard, OH, Class E airspace extending upward from 700 ft. above the surface contained within the Mansfield, OH, airspace legal description, the proposal would increase the radius from 6.3 miles to 6.5 miles.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1G, “FAA National Environmental Policy Act Implementing Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11K, Airspace Designations and Reporting Points, dated August 4, 2025, and effective September 15, 2025, is amended as follows:

Paragraph 5000 Class D Airspace.

* * * * *

AGL OH D Mansfield, OH [Amended]

Mansfield Lahm Regional Airport, OH

(Lat 40°49′17″ N, long 082°31′00″ W)

That airspace extending from the surface to and including 3,800 feet MSL within a 5.4-mile radius of the Mansfield Lahm Regional Airport. This Class D airspace area is effective during the specific dates and times established in advance by Notice to Airmen. The effective dates and times will thereafter be continuously published in the Chart Supplement.

* * * * *

6002 Class E Airspace Areas Designated as Surface Areas.

* * * * *

AGL OH E2 Mansfield, OH [Amended]

Mansfield Lahm Regional Airport, OH

(Lat 40°49′17″ N, long 082°31′00″ W)

Within a 5.4-mile radius of Mansfield Lahm Regional Airport. This Class E airspace area is effective during the specific dates and times established in advance by Notice to Airmen. The effective dates and times will thereafter be continuously published in the Chart Supplement.

* * * * *

Paragraph 6005 Class E Airspace Areas Extending Upward From 700 Feet or More Above the Surface of the Earth.

* * * * *

AGL OH E5 Ashland, OH [Amended]

Ashland County Airport, OH

(Lat 40°54′11″ N, long 082°15′20″ W)

University Hospitals Samaritan Medical Center Heliport, OH

(Lat 40°51′33″ N, long 082°18′31″ W)

That airspace extending upward from 700 feet above the surface within a 6.9-mile radius of Ashland County Airport; and within a 6.7-mile radius of the University Hospitals Samaritan Medical Center Heliport.

* * * * *

AGL OH E5 Bucyrus, OH [Amended]

Port Bucyrus/Crawford County Airport, OH

(Lat 40°46′54″ N, long 082°58′29″ W)

That airspace extending upward from 700 feet above the surface within a 6.8-mile radius of the Port Bucyrus/Crawford County Airport.

* * * * *

AGL OH E5 Mansfield, OH [Amended]

Mansfield Lahm Regional Airport, OH

(Lat 40°49′17″ N, long 082°31′00″ W)

Mansfield Lahm RGNL: RWY 32-LOC

(Lat 40°50′07″ N, long 082°31′51″ W)

MANNS NDB

(Lat 40°45′59″ N, long 082°26′43″ W)

Galion Municipal Airport, OH

(Lat 40°45′12″ N, long 082°43′26″ W)

Shelby Community Airport, OH

(Lat 40°52′22″ N, long 082°41′51″ W)

Willard Airport, OH

(Lat 41°02′20″ N, long 082°43′28″ W)

That airspace extending upward from 700 feet above the surface within a 7.9-mile radius of Mansfield Lahm Regional Airport; and within 2 miles each side of the 047° bearing from Mansfield Lahm Regional Airport extending from the 7.9-mile radius to 8.9 miles northeast of the Mansfield Lahm Regional Airport; and within 4 miles each side of the 137° bearing from the Mansfield Lahm RGNL: RWY 32-LOC extending from the 7.9-mile radius of the Mansfield Lahm Regional Airport to 8.9 miles southeast of the Mansfield Lahm Regional Airport; and within 4 miles each side of the 136° bearing from the MANNS NDB extending from the 7.9-mile radius of the Mansfield Lahm Regional Airport to 15 miles southeast of the Mansfield Lahm Regional Airport; and within 4 miles each side of the 137° bearing from the Mansfield Lahm Regional Airport extending from the 7.9-mile radius of the Mansfield Lahm Regional Airport to 11.2 miles southeast of the Mansfield Lahm Regional Airport; and within 4 miles each side of the 317° bearing from the Mansfield Lahm Regional Airport extending from the 7.9-mile radius of the Mansfield Lahm Regional Airport to 11.6 miles northwest of the Mansfield Lahm Regional Airport; and within a 7.9-mile radius of Galion Municipal Airport; and within a 7-mile radius of Shelby Community Airport; and within a 6.5-mile radius of Willard Airport.

* * * * *

Issued in Fort Worth, Texas, on November 19, 2025.
Jerry J. Creecy,
Acting Manager, Operations Support Group, ATO Central Service Center.

[FR Doc. 2025-20596 Filed 11-20-25; 8:45 am]

BILLING CODE 4910-13-P